DEPARTMENT OF AGRICULTURE

Rural Business-Cooperative Service

Notice of Solicitation of Applications for the Advanced Biofuels Payment Program

AGENCY: Rural Business-Cooperative Service, United States Department of Agriculture (USDA).

ACTION: Initial Notice.

SUMMARY: This Notice announces the timeframes to submit applications for participation in the Advanced Biofuels Payment Program. The Advanced Biofuels Payment Program funds were provided through the Agricultural Act of 2014, Public Law 113-79, on February 7, 2014, (2014 Farm Bill). Under the Advanced Biofuel Payment Program, payments are made to advanced biofuel producers for the production of eligible advanced biofuels.

DATES: Applications for participation in fiscal year 2015 are accepted between October 1 through October 31, 2014, in accordance with 7 CFR 4288.120(b). Applicants must also comply with the quarterly submission dates referenced in this Notice under IV(C)(2) and also contained in 7 CFR 4288.130(d).

ADDRESSES: See the SUPPLEMENTARY INFORMATION for addresses concerning information for the Advanced Biofuel Payment Program for fiscal year 2015 funds.

FOR FURTHER INFORMATION CONTACT: For information about the Advanced Biofuel Payment Program assistance, please contact a USDA Rural Development Energy Coordinator, as provided in the SUPPLEMENTARY INFORMATION section of this Notice, or Lisa Noty, Energy Division, USDA Rural Development, 511 W. 7th Street, Atlantic, IA 50022. Telephone: (712) 243-2107 extension 116. Email: lisa.noty@wdc.usda.gov.

SUPPLEMENTARY INFORMATION:

Fiscal Year 2015 Applications for the Advanced Biofuel Payment Program

Complete applications must be submitted to the Rural Development State Office in the State in which the applicant's principal place of business is located.

Universal Identifier and System for Awards Management (SAM)

An applicant (unless the applicant is an individual) must have a Dun and Bradstreet Data Universal Numbering System (DUNS) number, which can be obtained at no cost via a toll-free request line at 1-866-705-5711 or online at http://fedgov.dnb.com/webform.

Unless exempt under 2 CFR 25.110, the applicant must:

(a) Be registered in the SAM prior to submitting an application or plan;

(b) Maintain an active SAM registration with current information at all times during which it has an active Federal award or an application or plan under consideration by the Agency; and

(c) Provide its DUNS number in each application or plan it submits to the Agency.

Rural Development Energy Coordinators

For further information on this program, please contact the applicable USDA Rural Development Energy Coordinator for your respective State, as identified via the following link: http://www.rurdev.usda.gov/BCP_Energy_CoordinatorList.html.

Paperwork Reduction Act

In accordance with the Paperwork Reduction Act of 1995, the information collection requirements associated with the Advanced Biofuel Payments Program, as covered in this Notice, have been approved by the Office of Management and Budget (OMB) under OMB Control Number 0570-0057.

Overview

Federal Agency Name: Rural Business-Cooperative Service (RBS) (an agency of USDA).

Contract Proposal Title: Advanced Biofuel Payment Program.

Announcement Type: Annual announcement.

Catalog of Federal Domestic Assistance Number (CFDA): The CFDA number for this Notice is 10.867.

Dates: The Advanced Biofuels Program sign-up period for fiscal year 2015 participation is October 1 to October 31, 2014.

Availability of Notice and Rule: This Notice and the interim rule for the Advanced Biofuel Payment Program are available on the USDA Rural Development Web site at http://www.rurdev.usda.gov/BCP_Biofuels.html.

I. Funding Opportunity Description

A. Purpose of the program. The purpose of this program is to support and ensure an expanding production of advanced biofuels by providing payments to eligible advanced biofuel producers. Implementing this program not only promotes the Agency's mission of promoting sustainable economic development in rural America, but is an important part of achieving the Administration's goals for increased biofuel production and use by providing economic incentives for the production of advanced biofuels.

B. Statutory authority. This program is authorized under 7 U.S.C. 8105.

C. Definition of terms. The definitions applicable to this Notice are published at 7 CFR 4288.102.

II. Award Information

A. Available funds. This Notice is announcing application dates for applying for participation in the Advanced Biofuel Payment Program. The 2014 Farm Bill provides $15 million in mandatory funding and authorizes additional appropriations of up to $25 million for each fiscal year through 2018. This Notice is being published prior to the Congressional Enactment of a full-year appropriation for fiscal year 2015. Once the full year appropriation is known, RBS will announce the total funds available (mandatory and discretionary) for the Advanced Biofuel Payment Program on the following Web site: http://www.rurdev.usda.gov/BCP_Biofuels.html.

B. Approximate number of awards. The number of awards will depend on the number of participating advanced biofuel producers.

C. Range of amounts of each payment. There is no minimum or maximum payment amount that an individual producer can receive. The amount that each producer receives will depend on the number of eligible advanced biofuel producers participating in the program for the respective fiscal year, the amount of advanced biofuels being produced by such advanced biofuel producers, and the amount of funds available.

D. Contract. For producers participating in this program for the first time, a contract will need to be entered into with the Agency and the contract period will continue indefinitely until terminated as provided for in 7 CFR 4288.121(d). For producers that participated in this program in the previous fiscal year, the contract period continues indefinitely until terminated as provided for in 7 CFR 4288.121(d).

E. Production period. Payments to participating advanced biofuel producers under this Notice will be made on actual eligible advanced biofuels produced from October 1, 2014, through September 30, 2015, in accordance with 7 CFR part 4288, subpart B.

F. Type of instrument. Payment.

III. Eligibility Information

A. Eligible applicants. To be eligible for this program, an applicant must meet the eligibility requirements specified in 7 CFR 4288.110.

B. Biofuel eligibility. To be eligible for payment, an advanced biofuel must meet the eligibility requirements specified in 7 CFR 4288.111.

C. Payment eligibility. To be eligible for program payments, an advanced biofuel producer must maintain the records specified in 7 CFR 4288.113.

IV. Application and Submission Information

A. Address to request applications. Annual Application, Contract, and Payment Request forms are available from the USDA Rural Development State Office, Rural Development Energy Coordinator. The list of Rural Development Energy Coordinators is provided in the SUPPLEMENTARY INFORMATION section of this Notice.

B. Content and form of submission. The enrollment provisions, including application content and form of submission, are specified in 7 CFR 4288.120 and 4288.121.

C. Submission dates and times.

(1) Enrollment. Advanced biofuel producers who expect to produce eligible advanced biofuel at any time during fiscal year 2015 must enroll in the program by the dates identified in this Notice. Applications received after the identified dates, regardless of their postmark, will not be considered by the Agency. Producers who participated in this Program in any previous fiscal year must submit a new application as identified above to be considered.

(2) Payment applications. Advanced biofuel producers must submit Form RD 4288-3, “Advanced Biofuel Payment Program—Payment Request,” for each of the four Federal fiscal quarters for each fiscal year. Pay requests for the first quarter of fiscal year 2015 must be submitted by 4:30 p.m., January 31, 2015. Second quarter pay requests must be submitted by 4:30 p.m., April 30, 2015; third quarter submitted by 4:30 p.m., July 31, 2015; and fourth quarter submitted by 4:30 p.m., October 31, 2015. Neither complete nor incomplete payment applications received after such dates and times will be considered, regardless of the postmark on the request. If any of these deadlines falls on a weekend or a federally-observed holiday, the deadline is the next Federal business day.

D. Funding restrictions. Not more than 5 percent of the funds in each fiscal year will be made available to eligible producers with a refining capacity (as determined for the prior fiscal year) exceeding 150,000,000 gallons per year of a liquid advanced biofuel or exceeding 15,900,000 million British Thermal Units per year of biogas and solid advanced biofuel. (In calculating whether a producer meets either of these capacities, production of all advanced biofuel facilities in which the producer has 50 percent or more ownership will be totaled.) The Agency will provide payments to eligible solid advanced biofuels produced from forest biomass of not more than 5 percent of available program funds in each fiscal year. The remaining funds will be made available to all other producers.

E. Payment provisions. Payments will be made according to the provisions specified in 7 CFR 4288.130 through 4288.137. Payment requests are required to be submitted in accordance with 7 CFR 4288.130(d).

V. Administration Information

A. Notice of eligibility. The provisions of 7 CFR 4288.112 apply to this Notice. These provisions include the notification process for eligible and ineligible applicants.

B. Administrative and national policy requirements.

(1) Review or appeal rights. A person may seek a review of an adverse agency decision or appeal to the National Appeals Division as provided in 7 CFR 4288.103.

(2) Compliance with other laws and regulations. The provisions of 7 CFR 4288.104 apply to this Notice, which includes requiring advanced biofuel producers to be in compliance with other applicable Federal, State, and local laws.

(3) Oversight and monitoring. The provisions of 7 CFR 4288.105 apply to this Notice.

(4) Exception authority. The provisions of 7 CFR 4288.107 apply to this Notice.

(5) Unauthorized Assistance. The provision of 7 CFR 4288.135 apply to this Notice.

C. Environmental review. This document has been reviewed in accordance with 7 CFR part 1940, subpart G, “Environmental Program.” RBS has determined that this action does not constitute a major Federal action significantly affecting the quality of the human environment, and in accordance with the National Environmental Policy Act (NEPA) of 1969, 42 U.S.C. 4321 et seq., this regulation is a Categorical Exclusion. Payment applications will be reviewed individually to determine compliance with NEPA.

VII. Agency Contacts

For assistance on this payment program, please contact a USDA Rural Development Energy Coordinator, as provided in the SUPPLEMENTARY INFORMATION section of this Notice, or Lisa Noty, Energy Division, USDA Rural Development, 511 W. 7th Street, Atlantic, IA. Telephone: (712) 243-2107 extension 116. Email: lisa.noty@wdc.usda.gov.

VIII. Nondiscrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.)

Persons with disabilities who require alternative means for communication of program information (Braille, large print, audiotape, etc.) should contact USDA's TARGET center at (202) 720-2600 (voice and TDD).

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing, or have speech disabilities and you wish to file a program complaint please contact USDA through the Federal Relay Service at (800) 877-8339 or (800) 845-6136 (in Spanish). USDA is an equal opportunity provider and employer. The full “Non-Discrimination Statement” is found at: http://www.usda.gov/wps/portal/usda/usdahome?navtype=FT&navid=Non_Discrimination.

Dated: September 23, 2014.
Lillian E. Salerno,
Administrator, Rural Business-Cooperative Service.

[FR Doc. 2014-23128 Filed 9-26-14; 8:45 am]

BILLING CODE 3410-XY-P